DEPARTMENT OF TRANSPORTATION

Federal Aviation Administration

14 CFR Part 39

[Docket No. FAA-2006-25890; Directorate Identifier 2006-NM-115-AD; Amendment 39-14943; AD 2007-04-11]

RIN 2120-AA64

Airworthiness Directives; Airbus Model A300 B2 and B4 Series Airplanes

AGENCY: Federal Aviation Administration (FAA), Department of Transportation (DOT).

ACTION: Final rule.

SUMMARY: The FAA is superseding an existing airworthiness directive (AD), which applies to all Airbus Model A300 B2, B4-100, and B4-200 series airplanes. That AD currently requires supplemental structural inspections to detect fatigue cracking, and repair of cracked structure. This new AD requires revising the maintenance program by incorporating new and revised supplemental structural inspections, inspection intervals, and repairs; and repair of any damaged, cracked, or corroded structure; which would end the existing supplement structural inspections. This AD results from a review of service history and reports received from the current supplemental structural inspection document program. We are issuing this AD to prevent reduced structural integrity of these airplanes due to fatigue cracking.

DATES: This AD becomes effective April 3, 2007.

The Director of the Federal Register approved the incorporation by reference of certain publications listed in the AD as of April 3, 2007.

On August 9, 1996 (61 FR 35122, July 5, 1996), the Director of the Federal Register approved the incorporation by reference of Airbus Industrie Supplemental Structural Inspection Document, dated September 1989; and Airbus Industrie A300 Supplemental Structural Inspection Document, Revision 2, dated June 1994.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 96-13-11, amendment 39-9679 (61 FR 35122, July 5, 1996). The existing AD applies to all Airbus Model A300 B2, B4-100, and B4-200 series airplanes. That NPRM was published in the Federal Register on September 26, 2006 (71 FR 56058). That NPRM proposed to continue to require supplemental structural inspections to detect fatigue cracking, and repair of cracked structure. That NPRM also proposed to require revising the maintenance program by incorporating new and revised supplemental structural inspections, inspection intervals, and repairs; and repair of any damaged, cracked, or corroded structure; which would end the existing supplement structural inspections.

Comments

We provided the public the opportunity to participate in the development of this AD. We have considered the comment received.

Request for Change to the Applicability

Airbus, the manufacturer, requests that we exclude the A300-600 series airplanes from the AD applicability. The commenter refers us to page 1-A of Airbus A300 Airworthiness Limitation Items Document SEM2/95A.1090/05, Issue 3, dated September 2005, as revised by Airbus Temporary Revision 3.1, dated April 2006, which does not include A300-600 series airplanes.

We agree with the commenter's request. We do not want any reader of this AD to infer that A300-600 series airplanes are included, and have changed the applicability to exclude those airplanes in paragraph (c) of this AD.

Conclusion

We have carefully reviewed the available data, including the comment received, and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Implementation of supplemental structural inspection program (required by AD 96-13-11) | 597 | $80 | None | $47,760 | 29 | $1,385,040
Revision of the FAA-approved maintenance program (new action) | 10 | 80 | None | 800 | 29 | 23,200

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-9679 (61 FR 35122, July 5, 1996) and by adding the following new airworthiness directive (AD):

2007-04-11 Airbus: Amendment 39-14943. Docket No. FAA-2006-25890; Directorate Identifier 2006-NM-115-AD.

Effective Date

(a) This AD becomes effective April 3, 2007.

Affected ADs

(b) This AD supersedes AD 96-13-11.

Applicability

(c) This AD applies to all Airbus Model A300 B2 and B4 series airplanes, certificated in any category, excluding A300-600 series airplanes.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (x) of this AD. The request should include a description of changes to the required inspections that will ensure the continued damage tolerance of the affected structure. The FAA has provided guidance for this determination in Advisory Circular (AC) 25-1529.

Unsafe Condition

(d) This AD results from a review of service history and reports received from the current supplemental structural inspection document program. We are issuing this AD to prevent reduced structural integrity of these airplanes due to fatigue cracking.

Compliance

(e) You are responsible for having the actions required by this AD performed within the compliance times specified, unless the actions have already been done.

Requirements of AD 96-13-11

(f) Within one year after March 9, 1993 (the effective date of AD 93-01-24, amendment 39-8478), incorporate a revision into the FAA-approved maintenance inspection program that provides for supplemental maintenance inspections, modifications, repair, or replacement of the significant structural details (SSD) and significant structural items (SSI) specified in “Airbus Industrie A300 Supplemental Structural Inspection Document” (SSID), dated September 1989 (hereafter referred to as “the SSID”).

(g) Within one year after August 9, 1996 (the effective date of AD 96-13-11), replace the revision of the FAA-approved maintenance program required by paragraph (f) of this AD with the inspections, inspection intervals, repairs, and replacements defined in “Airbus Industrie A300 Supplemental Structural Inspection Document” (SSID), Revision 2, dated June 1994 (hereafter referred to as “Revision 2 of the SSID”). Accomplish the actions specified in the service bulletins identified in Section 6, “SB Reference List,” Revision 2 of the SSID, at the times specified in those service bulletins. The actions are to be accomplished in accordance with those service bulletins.

(1) For airplanes that have exceeded the threshold specified in any of the service bulletins identified in Section 6, “SB Reference List,” Revision 2 of the SSID: Accomplish the actions specified in those service bulletins within the grace period specified in that service bulletin. The grace period is to be measured from August 9, 1996.

(2) For airplanes that have exceeded the threshold specified in any of the service bulletins identified in Section 6, “SB Reference List,” Revision 2 of the SSID, and a grace period is not specified in that service bulletin: Accomplish the actions specified in that service bulletin within 1,500 flight cycles after August 9, 1996.

(h) If any cracked structure is detected during the inspections required by either paragraph (f) or (g) of this AD, prior to further flight, permanently repair the cracked structure in accordance with either paragraph (h)(1), (h)(2), or (h)(3) of this AD.

Note 2: A permanent repair is defined as a repair that meets the certification basis of the airplane, and does not require additional modification at a later date.

(1) The service bulletins listed in Section 6, “SB Reference List,” of the SSID (for airplanes that are currently being inspected in accordance with paragraph (f) of this AD); or in accordance with a method approved by the Manager, International Branch, ANM-116 (formerly the Standardization Branch, ANM-113), FAA, Transport Airplane Directorate, if a permanent repair is not specified in any of these service bulletins. Or

(2) The service bulletins listed in Section 6, “SB Reference List,” of Revision 2 of the SSID (for airplanes that are currently being inspected in accordance with paragraph (g) of this AD); or in accordance with a method approved by the Manager, International Branch, ANM-116 (formerly the Standardization Branch, ANM-113), if a permanent repair is not specified in any of these service bulletins. Or,

(3) Other permanent repair data meeting the certification basis of the airplane which is approved by the Manager, International Branch, ANM-116 (formerly the Standardization Branch, ANM-113); or by the Direction Générale de l'Aviation Civile (DGAC) of France.

(i) For airplanes identified as Fleet Leader Program (FLP) in Section 5, “Fleet Leader Program,” of the SSID or Revision 2 of the SSID: Inspect according to the instructions and intervals specified in paragraph 4.4, “Adjustment of Inspection Requirements and DSG,” of Section 4, or Section 9, as applicable, of the SSID (for airplanes inspected in accordance with paragraph (f) of this AD), or Revision 2 of the SSID (for airplanes inspected in accordance with paragraph (g) of this AD), for each SSD.

(j) For the purpose of accomplishing paragraphs (i), (k), (l), and (n) of this AD, operators shall not use paragraph 6.2, “Complete RR Method,” of Section 9 of the SSID to calculate inspection thresholds and intervals.

(k) For Model A300-B2 and B2K-3C series airplanes: For any SSD that has exceeded the values of the threshold specified in paragraph 6, “Inspection Threshold and Intervals,” Section 9 of the SSID, inspect at the time specified in either paragraph (k)(1) or (k)(2) of this AD, as applicable.

(1) For airplanes inspected in accordance with paragraph (f) of this AD: Inspect within 2,000 landings after March 9, 1993, in accordance with the SSID. Or,

(2) For airplanes inspected in accordance with paragraph (g) of this AD: Inspect within 2,000 landings after August 9, 1996, in accordance with Revision 2 of the SSID.

(l) For Model A300-B4 series airplanes: For any SSD that has exceeded the values of the threshold specified in paragraph 6, “Inspection Threshold and Intervals,” Section 9 of the SSID, inspect at the time specified in either paragraph (l)(1) or (l)(2) of this AD, as applicable.

(1) For airplanes inspected in accordance with paragraph (f) of this AD: Inspect within 1,500 landings after March 9, 1993 [the effective date of AD 93-01-24, amendment 39-8478]. Or,

(2) For airplanes inspected in accordance with paragraph (g) of this AD: Inspect within 1,500 landings after August 9, 1996.

(m) For airplanes identified as FLP in Section 5, “Fleet Leader Program,” of the SSID or Revision 2 of the SSID: Within one year after August 9, 1996, apply the basic requirements given in Revision 2 of the SSID.

(n) For airplanes that are subject to the requirements of paragraph (g) of this AD, and have exceeded the initial inspection threshold specified in paragraph 4.4, “Adjustment of Inspection Requirements and DSG,” of Section 4, or paragraph 6, “Inspection Threshold and Intervals,” of Section 9, for each SSD: Perform the initial inspection prior to the accumulation of the number of flight cycles specified in paragraph 7, “Additional Information,” Section 9, of Revision 2 of the SSID.

Note 3: Fatigue ratings are not applicable to these allowances; therefore, no adjustment is required.

Note 4: Paragraph (n) of this AD provides the “grace” periods for those airplanes that are new to the FLP or that have newly added or revised SSID requirements in accordance with paragraph (g) of this AD.

(o) The grace period provided by paragraph (n) of this AD is also applicable to the thresholds and/or repeat intervals for each SSD for which the inspection interval or threshold was reduced in accordance with the requirements of paragraph (g) of this AD.

(p) For FLP airplanes identified in Section 5, “Fleet Leader Program,” of the SSID or Revision 2 of the SSID that are listed in Section 7, “SSI Limitation List,” of the SSID (for airplanes that are currently being inspected in accordance with paragraph (f) of this AD), or Revision 2 of the SSID (for airplanes that are currently being inspected in accordance with paragraph (g) of this AD): Inspect at intervals not to exceed the interval specified for each SSI, in accordance with the values given in Section 7, “SSI Limitation List,” of the SSID or Revision 2 of the SSID, as applicable.

(q) For all airplanes: All inspection results, positive or negative, must be reported to Airbus in accordance with either paragraph (q)(1) or (q)(2) of this AD, as applicable. Information collection requirements contained in this regulation have been approved by the Office of Management and Budget (OMB) under the provisions of the Paperwork Reduction Act of 1980 (44 U.S.C. 3501 et seq.) and have been assigned OMB Control Number 2120-0056.

(1) For FLP airplanes, identified in Section 5, “Fleet Leader Program,” of the SSID or Revision 2 of the SSID: Submit reports in accordance with the instructions in paragraph 5.2, “SSIP Inspection Reporting,” of Section 5, and paragraph 7.1, “General,” of Section 7 of the SSID (for airplanes that are currently being inspected in accordance with paragraph (f) of this AD); or Revision 2 of the SSID (for airplanes inspected in accordance with paragraph (g) of this AD).

(2) For all airplanes that are subject to Section 6, “SB Reference List,” of the SSID: Submit reports in accordance with the instructions in the applicable service bulletins identified in Section 6 of the SSID (for airplanes that are currently being inspected in accordance with paragraph (f) of this AD); or Revision 2 of the SSID (for airplanes that are currently being inspected in accordance with paragraph (g) of this AD).

New Requirements of This AD

Revision of the FAA-Approved Maintenance Inspection Program

(r) Within 12 months after the effective date of this AD, replace the revision of the FAA-approved maintenance program required by paragraph (g) of this AD with the supplemental structural inspections, inspection intervals, and repairs defined in Airbus A300 Airworthiness Limitation Items (ALI) Document SEM2/95A.1090/05, Issue 3, dated September 2005, as revised by Airbus Temporary Revision (TR) 3.1, dated April 2006 (hereafter referred to as “Issue 3 of the ALI”). Accomplish the actions specified in Issue 3 of the ALI at the times specified in that ALI, except as provided by paragraph (s) of this AD. The actions must be accomplished in accordance with Issue 3 of the ALI. Accomplishing the applicable initial ALI tasks constitutes terminating action for the requirements of paragraphs (f) through (q) of this AD.

(s) For airplanes that have exceeded the threshold or intervals specified in Issue 3 of the ALI for the application tolerance on the first interval for new and revised requirements and have exceeded 50 percent of the intervals specified in sections D and E of Issue 3 of the ALI: Do the actions within 6 months after the effective date of this AD.

Corrective Actions

(t) Damaged, cracked, or corroded structure detected during any inspection done in accordance with Issue 3 of the ALI must be repaired, before further flight, in accordance with Issue 3 of the ALI, except as provided by paragraph (u) of this AD; or other data meeting the certification basis of the airplane which is approved by the Manager, International Branch, ANM-116; or by the European Aviation Safety Agency (EASA) (or its delegated agent).

(u) Where Issue 3 of the ALI specifies contacting Airbus for appropriate action: Before further flight, repair the damaged, cracked, or corroded structure using a method approved by either the Manager, International Branch, ANM-116; or the EASA (or its delegated agent).

No Fleet Sampling

(v) Although Issue 3 of the ALI specifies to do a “Sampling Concept” in section B, this AD prohibits the use of such a sampling program and requires all affected airplanes of the fleet to be inspected.

No Reporting

(w) Although Issue 3 of the ALI specifies to submit certain information to the manufacturer, this AD does not include that requirement.

Alternative Methods of Compliance (AMOCs)

(x)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 96-13-11 are approved as AMOCs for the corresponding provisions of paragraphs (f) through (q) of this AD.

Related Information

(y) EASA airworthiness directive 2006-0071, dated March 30, 2006, also addresses the subject of this AD.

Material Incorporated by Reference

(z) You must use Airbus A300 Airworthiness Limitation Items Document SEM2/95A.1090/05, Issue 3, dated September 2005, as revised by Airbus A300 Airworthiness Limitation Items Document SEM2/95A.1090/05, Temporary Revision 3.1, including attachment, dated April 2006, and including attachments dated September 2005; Airbus Industrie Supplemental Structural Inspection Document, dated September 1989; and Airbus Industrie A300 Supplemental Structural Inspection Document, Revision 2, dated June 1994; as applicable, to perform the actions that are required by this AD, unless the AD specifies otherwise. Airbus A300 Airworthiness Limitation Items Document SEM2/95A.1090/05, Issue 3, dated September 2005, contains the following effective pages:

Page number | Issue number shown on page | Date shown on page
1-SOC—10-SOC | Section SOC, 3 | September 2005.
1-TOC | Section TOC, 3 | September 2005.
1-A | Section A, 3 | September 2005.
1-B—6-B | Section B, 3 | September 2005.
1-C, 2 | Section C, 3 | September 2005.
1-D, 2-D, 3-101 | Section D, 3 | September 2005.
1-E, 1-24 | Section E, 3 | September 2005.
1-F, 2-39 | Section F, 3 | September 2005.
1-G, 20-G, 30-G, 101-G | Section G, 3 | September 2005.
2-G—19-G, 21-G—29-G, 31-G—100G, 102-G—328-G | 1 | January 2004.
1-App—3-App | Section App, 3 | September 2005.

(Airbus A300 Airworthiness Limitation Items Document SEM2/95A.1090/05, Issue 3, dated September 2005, contains two page 1-SOC and two page 190-G. The first page identified as 1-SOC is the Record of Changes and the second page 1-SOC is the first page of the Summary of Changes. The first page identified as page 190-G refers to Airworthiness Limitation Item 546014, and the second page 190-G refers to Airworthiness Limitation Item 556001.) Airbus A300 Airworthiness Limitations Items Document SEM2/95A.1090/05, Temporary Revision 3.1, dated April 2006, contains the following effective pages:

Page number | Issue number shown on page | Date shown on page
1-T.R. 3.1-4-T.R.3.1 | Original | April 2006.
Section D, 3-27 | T.R.3.1 | April 2006.
Section E, 1-4 | 3 | September 2005.
Section F, 2-6 | 3 | September 2005.

(1) The Director of the Federal Register approved the incorporation by reference of Airbus A300 Airworthiness Limitation Items Document SEM2/95A.1090/05, Issue 3, dated September 2005; as revised by Airbus A300 Airworthiness Limitation Items Document SEM2/95A.1090/05, Temporary Revision 3.1, including attachment, dated April 2006, and including attachments, dated September 2005; in accordance with 5 U.S.C. 552(a) and 1 CFR part 51.

(2) On August 9, 1996 (61 FR 35122, July 5, 1996), the Director of the Federal Register approved the incorporation by reference of Airbus Industrie Supplemental Structural Inspection Document, dated September 1989; and Airbus Industrie Supplemental Structural Inspection Document, Revision 2, dated June 1994.

(3) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 6, 2007.
Ali Bahrami,
Manager, Transport Airplane Directorate, Aircraft Certification Service.

[FR Doc. E7-2512 Filed 2-26-07; 8:45 am]

BILLING CODE 4910-13-P